DEPARTMENT OF AGRICULTURE

Submission for OMB Review; Comment Request

August 2, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by September 6, 2018 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Foreign Quarantine Notices.

OMB Control Number: 0579-0049.

Summary of Collection: Under the Plant Protection Act (PPA) (Title IV, Pub. L. 106-224, 114 Stat. 438, 7 U.S.C. 7701-7772), the Secretary of Agriculture is authorized to prohibit or restrict the importation, entry, exportation, or movement in interstate commerce of plants and plant products to prevent the introduction of plant pests into the United States. Regulations governing the importation of fruits, vegetables, plants for planting, logs, lumber, unprocessed wood products, cotton, corn, rice, sugar cane, and coffee are contained in 7 CFR part 319 and part 352. Implementing the laws through regulations is necessary to prevent injurious plant and insect pests from entering the United States and creating serious physical and economic consequences for U.S. agriculture.

The regulations and subsequent requirements are enforced by the Animal and Plant Health Inspection Service (APHIS) and require the collection of information verifying oversight and inspection of the growing, handling, packing, transporting, and importing of fruits, vegetables, plants for planting, logs, lumber, unprocessed wood products, cotton, corn, rice, sugar cane, and coffee into the United States. The information is collected from businesses, individuals, and foreign government officials, via forms, labels, certifications, and other formats. On a quarterly basis, APHIS will submit a report to the Office of Management and Budget that documents the burden imposed by import requirements for commodities covered by this information collection (fruits, vegetables, plants for planting, logs, lumber, unprocessed wood products, cotton, corn, rice, sugar cane, and coffee) that have been finalized within that quarterly period.

Need and Use of the Information: APHIS will collect information such as operational workplans; cooperative service agreements; trust funds; production or processing site/facility registrations; foreign site certification of inspection and/or treatment; applications for permits; appeals of denial or revocation of permits; requests for additional mailing labels; compliance agreements; phytosanitary certificates; labeling; importer documents; agreements for post entry quarantine State screening notices; 30-day article notifications; requests for emergency transshipment or diversion; notices of arrival; emergency action notifications; and monitoring/recordkeeping from responsible entities. In addition, APHIS will collect required information from national plant protection organizations as part of the commodity import approval process. If this information is not collected, APHIS' ability to safeguard the United States from injurious plant and insect pests from entering the country would be severely compromised.

Description of Respondents: Businesses, Individuals and Households, National and State Governments.

Number of Respondents: 22,353.

Frequency of Responses: Reporting, Recordkeeping, Third-Party Disclosure: On occasion.

Total Burden Hours: 550,363.

Ruth Brown,
Departmental Information Collection Clearance Officer.

[FR Doc. 2018-16864 Filed 8-6-18; 8:45 am]

BILLING CODE 3410-34-P